DEPARTMENT OF JUSTICE

Bureau of Alcohol, Tobacco, Firearms and Explosives

[OMB Number 1140-0039]

Agency Information Collection Activities; Proposed eCollection eComments Requested; Extension Without Change of a Currently Approved Collection; Federal Firearms Licensee Firearms Inventory Theft/Loss Report—ATF F 3310.11

AGENCY: Bureau of Alcohol, Tobacco, Firearms and Explosives, Department of Justice.

ACTION: 60-Day notice.

SUMMARY: The Department of Justice (DOJ), Bureau of Alcohol, Tobacco, Firearms and Explosives (ATF), will submit the following information collection request to the Office of Management and Budget (OMB) for review and approval in accordance with the Paperwork Reduction Act of 1995.

DATES: Comments are encouraged and will be accepted for 60 days until July 24, 2017.

FOR FURTHER INFORMATION CONTACT: If you have additional comments, particularly with respect to the estimated public burden or associated response time, have suggestions, need a copy of the proposed information collection instrument with instructions, or desire any additional information, please contact Larry Penninger Federal Fir, Chief, National Tracing Center, either by mail at 244 Needy Road, Martinsburg, WV 25405, by email at Larry.Penninger@atf.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this information collection:

1. Type of Information Collection (check justification or form 83): Extension, without change, of a currently approved collection.

2. The Title of the Form/Collection: Federal Firearms Licensee Firearms Inventory Theft/Loss Report.

3. The agency form number, if any, and the applicable component of the Department sponsoring the collection:

Form number (if applicable): ATF F 3310.11.

Component: Bureau of Alcohol, Tobacco, Firearms and Explosives, U.S. Department of Justice.

4. Affected public who will be asked or required to respond, as well as a brief abstract:

Primary: Individuals or households.

Other (if applicable): Business or other for-profit.

Abstract: This form requires that licensees report the theft or loss of firearms to the Attorney General and the appropriate authorities.

5. An estimate of the total number of respondents and the amount of time estimated for an average respondent to respond: An estimated 4,000 respondents will utilize the form, and it will take each respondent approximately 24 minutes to complete the form.

6. An estimate of the total public burden (in hours) associated with the collection: The estimated annual public burden associated with this collection is 1,600 hours, which is equal to 4,000 (total # of respondents) × .4 (24 Minutes).

If additional information is required contact: Melody Braswell, Department Clearance Officer, United States Department of Justice, Justice Management Division, Policy and Planning Staff, Two Constitution Square, 145 N Street NE., 3E.405A, Washington, DC 20530.

Dated: May 22, 2017.
Melody Braswell,
Department Clearance Officer for PRA, U.S. Department of Justice.

[FR Doc. 2017-10737 Filed 5-24-17; 8:45 am]

BILLING CODE 4410-FY-P